DEPARTMENT OF THE INTERIOR

Bureau of Land Management

60-Day Notice of Proposed Information Collection for 1004-0012

AGENCY: Bureau of Land Management, Interior.

ACTION: 60-Day Notice and Request for Comments.

SUMMARY: In compliance with the Paperwork Reduction Act of 1995, the Bureau of Land Management (BLM) is announcing its intention to request approval to continue the collection of information under the Recreation and Public Purposes Act. This information collection activity was previously approved by the Office of Management and Budget (OMB), and was assigned the control number 1004-0012.

DATES: Comments on the proposed information collection must be received by July 20, 2009, to be assured of consideration.

ADDRESSES: You may mail comments to: U.S. Department of the Interior, Bureau of Land Management, Mail Stop 401LS, 1849 C St., NW., Washington, DC 20240 (Attention: 1004-0012). You may also comment electronically at the following address: Jean_Sonneman@blm.gov.

FOR FURTHER INFORMATION CONTACT: To receive a copy of the information collection request, you may contact Alzata Ransom, Bureau of Land Management, Lands and Realty Group, at (202) 452-7772 (Commercial or FTS). Persons who use a telecommunication device for the deaf (TDD) may call the Federal Information Relay Service (FIRS) at (800) 877-8330, 24 hours a day, 7 days a week, to contact Ms. Ransom.

SUPPLEMENTARY INFORMATION: OMB regulations at 5 CFR 1320, which implement provisions of the Paperwork Reduction Act (44 U.S.C. 3501-3521), require that interested members of the public and affected agencies have an opportunity to comment on information collection and recordkeeping activities (see 5 CFR 1320.8(d) and 1320.12(a)). This notice identifies an information collection that the BLM will be submitting to OMB for approval.

This collection is contained in 43 CFR 2730.0-9 (OMB Control No. 1004-0012). The BLM will request a 3-year term of approval for this information collection activity.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany the BLM's submission of the information collection requests to OMB.

Before including your address, phone number, e-mail address, or other personal identifying information in your comment, you should be aware that your entire comment—including your personal identifying information—may be made publicly available at any time. While you can ask us in your comment to withhold your personal identifying information from public review, we cannot guarantee that we will be able to do so.

The following information is provided for the information collection: (1) Title of the information collection; (2) OMB control number; (3) summary of the information collection activity; and (4) frequency of collection, description of the respondents, estimated total annual responses, and the total annual reporting and recordkeeping burden for the collection of information.

Title: 43 CFR part 2740—Recreation and Public Purposes Act.

OMB Control Number: 1004-0012.

Summary: The Recreation and Public Purposes Act (Act) (43 U.S.C. 869 et seq.), authorizes the Secretary of the Interior to lease or convey certain public lands to States or their political subdivisions, and to nonprofit corporations and associations, for recreational and public purposes. The information requested is needed to assist the BLM in determining if an applicant meets the requirements of the Recreation and Public Purposes Act. Responses are required to obtain a benefit.

Frequency of Collection: Once.

Description of Respondents: Applicants for leases and patents to public lands for recreational and public purposes.

Total Annual Responses: 7.

Total Annual Burden for All Respondents: 280 hours.

Dated: May 14, 2009.
Jean Sonneman,
Acting Information Collection Clearance Officer, Bureau of Land Management.

[FR Doc. E9-11626 Filed 5-18-09; 8:45 am]

BILLING CODE 4310-84-P